DEPARTMENT OF THE INTERIOR

Geological Survey

[GX14GG009950000]

Scientific Earthquake Studies Advisory Committee (SESAC)

AGENCY: U.S. Geological Survey.

ACTION: Notice of meeting.

SUMMARY: Pursuant to Public Law 106-503, the Scientific Earthquake Studies Advisory Committee (SESAC) will hold its next meeting at Stanford University, in Palo Alto, California. The Committee is comprised of members from academia, industry, and State government. The Committee shall advise the Director of the U.S. Geological Survey (USGS) on matters relating to the USGS's participation in the National Earthquake Hazards Reduction Program.

The Committee will receive reports on the status of activities of the Program and progress toward Program goals and objectives. The Committee will assess this information and provide guidance on the future undertakings and direction of the Earthquake Hazards Program. Focus topics for this meeting include budget sequestration, rock mechanics research, induced seismicity, earthquake early warning and national earthquake hazard mapping.

Meetings of the Scientific Earthquake Studies Advisory Committee are open to the public.

DATES: November 6-7th, 2013, commencing at 8:30 a.m. on the first day and adjourning at 1:00 p.m. on November 7, 2013.

Contact: Dr. William Leith, U.S. Geological Survey, MS 905, 12201 Sunrise Valley Drive, Reston, Virginia 20192, (703) 648-6786, wleith@usgs.gov.

Dated: October 22, 2013.
William Leith,
Designated Federal Officer.

[FR Doc. 2013-25618 Filed 10-29-13; 8:45 am]

BILLING CODE P